FEDERAL COMMUNICATIONS COMMISSION

Sunshine Act Meeting

May 9, 2002.

Open Commission Meeting; Thursday, May 16, 2002

The Federal Communications Commission will hold an Open Meeting on the subjects listed below on Thursday, May 16, 2002 which is scheduled to commence at 9:30 a.m. in Room TW-C305, at 445 12th Street, SW., Washington, DC.

Item No. | Bureau | Subject
1 | Wireline Competition | Title: Section 272(f)(l) Sunset of the BOC Separate Affiliate and Related Requirements.
|  | Summary: The Commission will consider a Notice of Proposed Rulemaking concerning section 272.
2 | Media | Title: Amendment of Eligibility Requirements in Part 78 Regarding 12 GHz Cable Television Relay Service (CS Docket No. 99-250; RM-9257).
|  | Summary: The Commission will consider a Report and Order allowing private cable operators to use frequencies in the 12 GHz band of the Cable Television Relay Service (CARS).
3 | Media | Title: Requests for Extension of the October 5, 2001, Digital Television Construction Deadline.
|  | Summary: The Commission will consider an Order concerning extension of the October 5, 2001, digital television construction deadline filed by certain network-affiliated television stations located in the top thirty television markets and a Notice of Proposed Rulemaking on remedial steps for failure to comply with the DTV construction schedule.
4 | Office of Engineering and Technology | Title: Amendment of Part 15 of the Commission's Rules Regarding Spread Spectrum Devices (ET Docket No. 99-231).
|  | Summary: The Commission will consider a Second Report and Order concerning regulations for spread spectrum systems.
5 | Wireless Tele-Communications | Title: Amendments to Parts 1, 2, 27 and 90 of the Commission's Rules to License Services in the 216-220 MHz, 1390-1395 MHz, 1427-1429 MHz, 1429-1432 MHz, 1432-1435 MHz, 1670-1675 MHz, and 2385-2390 MHz Government Transfer Bands (WT Docket No. 02-8; RM-9267, RM-9692, RM-9797, RM-9854, RM-9882).
|  | Summary: The Commission will consider a Report and Order concerning service rules for the 216-220 MHz, 1390-1395 MHz, 1427-1432 MHz, 1670-1675 MHz, 2385-2390 MHz and the paired 1392-1395 MHz and 1432-1435 MHz Bands.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@apl.com.

This meeting can be viewed over George Mason University's Capitol Connection. The Capitol Connection also will carry the meeting live via the Internet. For information on these services call (703) 834-1470 Ext. 10. The audio portion of the meeting will be broadcast live on the Internet via the FCC's Internet audio broadcast page at <http://www.fcc.gov/realaudio/>. Audio and video tapes of this meeting can be purchased from Infocus, 341 Victory Drive, Herndon, VA 20170, telephone (703) 834-1470, Ext. 10; fax number (703) 834-0111.

Federal Communications Commission.
Marlene H. Dortch,
Secretary.

[FR Doc. 02-12571 Filed 5-15-02; 2:24 pm]

BILLING CODE 6712-01-P